DEPARTMENT OF THE TREASURY

Senior Executive Service; Departmental Offices Performance Review Board

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

Composition of Departmental Offices PRB: The Board shall consist of at least three members. In the case of an appraisal of a career appointee, more than half the members shall consist of career appointees. The names and titles of the Board members are as follows:

Abbott, Matthew, Deputy Assistant Secretary (Federal Finance);

Carfine, Kenneth E., Fiscal Assistant Secretary;

Carroll, Robert J., Deputy Assistant Secretary (Tax Analysis);

Duffy, Michael D., Deputy Assistant Secretary/Chief Information Officer;

Eddy, Lynn M., Associate Chief Information Officer (HR Connect);

Foster, Wesley T., Deputy Assistant Secretary (Management and Budget);

Fuller, Reese H., Advanced Counterfeit Deterrence Program Director.

Gerardi, Geraldine A., Director for Business and International Taxation;

Glaser, Daniel L., Deputy Assistant Secretary (Terrorist Financing and Financial Crimes);

Granat, Rochelle F., Deputy Assistant Secretary for Human Resources and Chief Human Capital Officer;

Daly, Nova James, Deputy Assistant Secretary (Investment Security);

Dick, Denise, White House Liaison;

Foster, Robert U., Deputy Assistant Secretary for Legislative Affairs (Banking & Finance);

Foster, Wesley T., Deputy Assistant Secretary (Management and Budget);

Grippo, Gary E., Deputy Assistant Secretary (Fiscal Operations and Policy);

Hammerle, Barbara C., Deputy Director, Office of Foreign Assets Control;

Hastings, Charles R., Deputy Chief Human Capital Officer;

Kiefer, Donald W., Director, Office of Tax Analysis;

Larue, Pamela J., Departmental Budget Director;

Lee, Nancy, Deputy Assistant Secretary (Eurasia and Middle East);

Mathiasen, Karen V., Director, Office of Financial Reconstruction and Stabilization;

McDonald, William L., Deputy Assistant Secretary (Technical Assistance Policy);

McLaughlin, Brookly, Deputy Assistant Secretary (Public Affairs);

Mendelsohn, Howard S., Deputy Assistant Secretary (Intelligence & Analysis);

Norton, Jeremiah O., Deputy Assistant Secretary (Financial Institutions and Government Sponsored Enterprise Policy);

Peel, Kenneth L., Deputy Assistant Secretary (Multilateral Development Banks);

Reed, Kimberly A., Director, Community Development Financial Institutions Fund;

Sills, Gay H., Director, Office of International Investment;

Skud, Timothy E., Deputy Assistant Secretary (Tax, Trade and Tariff Policy);

Smith, Taiya, Deputy Chief of Staff and Executive Secretary;

Sobel, Mark D., Deputy Assistant Secretary (International Monetary and Financial Policy);

Szubin, Adam J., Director, Office of Foreign Assets Control;

Tvardek, Steven F., Director, Office of Trade Finance;

Warren, Mark E., Deputy Assistant Secretary for Legislative Affairs (Tax and Budget);

Warthin, Thomas W., Director, Office of Financial Services Negotiations;

Wilkinson, James R., Chief of Staff.

DATES: Effective Date: Membership is effective on the date of this notice.

FOR FURTHER INFORMATION CONTACT: Christine Nalli, Supervisory Human Resources Specialist, 1500 Pennsylvania Avenue, NW., Washington, DC 20220, Telephone: 202-622-1105.

This notice does not meet the Department's criteria for significant regulations.

James Hyland,
Director, Office of Human Resources.

[FR Doc. E7-19381 Filed 10-1-07; 8:45 am]

BILLING CODE 4810-35-P